NUCLEAR REGULATORY COMMISSION

Notice of Availability of Draft NUREG-1800, Revision 1; “Standard Review Plan for Review of License Renewal Applications for Nuclear Power Plants” and Draft NUREG-1801, Revision 1; “Generic Aging Lessons Learned (GALL) Report”

AGENCY: Nuclear Regulatory Commission (NRC).

ACTION: Issuance of draft NUREG-1800 “Standard Review Plan for Review of License Renewal Applications for Nuclear Power Plants” and draft NUREG-1801, “Generic Aging Lessons Learned (GALL) Report” for public comment; and announcement of public workshop.

SUMMARY: The NRC staff is issuing drafts of the revised NUREG-1800; “Standard Review Plan for License Renewal Applications for Nuclear Power Plants” (SRP-LR); and the revised NUREG-1801, “Generic Aging Lessons Learned (GALL) Report” for public comment. These revised documents describe methods acceptable to the NRC staff for implementing the license renewal rule, Title 10, Code of Federal Regulations part 54 (10 CFR part 54), as well as techniques used by the NRC staff in evaluating applications for license renewals. The NRC is also announcing a public workshop to facilitate gathering public comments on the drafts of these revised documents. These draft documents supersede the preliminary draft documents that were publicly announced and placed on the NRC's Web site at http://www.nrc.gov/reactors/operating/licensing/renewal/guidance/updated-guidance.html on September 30, 2004. The NRC is especially interested in stakeholder comments that will improve the safety, effectiveness, and efficiency of the license renewal process.

DATES: Comments may be submitted on revised SRP-LR and the draft GALL Report, accompanied by supporting data, by March 30, 2005. Comments received after this date will be considered, if it is practical to do so, but the NRC staff is able to ensure consideration only for comments received on or before this date. A public workshop is planned for March 2, 2005, at NRC's headquarters and is announced on the NRC's Web site at http://www.nrc.gov/public-involve/public-meetings/meeting-schedule.html.

ADDRESSES: Written comments may be submitted to: Chief Rules and Directives Branch, Division of Administrative Services, Office of Administration, Mailstop T-6D59, U.S. Nuclear Regulatory Commission, Washington, DC, 20555-0001. Comments should be delivered to: 11545 Rockville Pike, Rockville, Maryland, Room T-6D59, between 7:30 a.m. and 4:15 p.m. on Federal workdays. Comments may also be provided via e-mail at NRCREP@NRC.GOV. The NRC maintains an Agencywide Documents Access and Management System (ADAMS), which provides text and image files of NRC's public documents. These documents may be accessed through the NRC's Public Electronic Reading Room on the Internet at http://www.nrc.gov/reading-rm/adams.html. Persons who do not have access to ADAMS, or who encounter problems in accessing the documents located in ADAMS, should contact the NRC's PDR Reference staff at 1-800-397-4209, or 301-414-4737, or by e-mail to pdr@nrc.gov.

FOR FURTHER INFORMATION CONTACT: Mr. Jerry Dozier, License Renewal Project Manager, Office of Nuclear Reactor Regulation, Mail Stop O-11F1, U.S. Nuclear Regulatory Commission, Washington, DC 20555-0001, telephone 301 415-1014, or e-mail jxd@nrc.gov.

SUPPLEMENTARY INFORMATION:

Draft Standard Review Plan for License Renewal

The NRC staff proposes to revise the July 2001 version of NUREG-1800, “Standard Review Plan for Review of License Renewal Applications for Nuclear Power Plants” (SRP-LR). The SRP-LR provides guidance to NRC staff reviewers in performing safety reviews of applications to renew licenses of nuclear power plants in accordance with the license renewal rule. The draft SRP-LR is under ADAMS Accession number ML050190137. The SRP-LR is being revised to incorporate lessons learned from the review of a number of previous license renewal applications, as well as to make changes corresponding to the update of the GALL Report. The draft SRP-LR contains four major chapters: (1) Administrative Information; (2) Scoping and Screening Methodology for Identifying Structures and Components Subject to Aging Management Review, and Implementation Results; (3) Aging Management Review Results; and (4) Time-Limited Aging Analyses. In addition, three Branch Technical Positions are in an Appendix to the SRP-LR.

Draft Generic Aging Lessons Learned Report, Revision 1

The Generic Aging Lessons Learned (GALL) Report, Revision 1, is an update to the July 2001 version; the report format is largely unchanged. The GALL Report Volumes 1 and 2 are available under ADAMS accession number ML050270004 and ML050270052, respectively. The adequacy of the generic aging management programs in managing certain aging effects for particular structures and components will continue to be evaluated based on the review of the following ten program elements: (1) Scope of program, (2) preventive actions, (3) parameters monitored or inspected, (4) detection of aging effects, (5) monitoring and trending, (6) acceptance criteria, (7) corrective actions, (8) confirmation process, (9) administrative controls, and (10) operating experience. The GALL Report is a technical basis document for the SRP-LR and should be treated in the same manner as an approved topical report that is applicable generically.

Solicitation of Comments

The comments should include supporting justification in enough detail for the NRC staff to evaluate the need for changes in the guidance, as well as references to the operating experience, industry standards, or other relevant reference materials that provide a sound technical basis for such changes. The NRC is also interested in comments that will improve the clarity of the documents so that the improved guidance will provide a stable and predictable evaluation standard for future renewal applications. Editorial and style comments are not necessary because we expect that the guidance documents will need to be reformatted and edited before they are issued in final form.

Questions for Public Comments

Although the NRC invites public comments on all information contained in these draft documents, responses to the following question are particularly solicited.

The GALL Report evaluates many existing programs for their adequacy to manage aging for license renewal. The license renewal guidance documents reference plant-specific aging management programs (AMP) when it is not clear if an appropriate widely-used (generic) AMP is available. Are there alternative generic AMPs that can be substituted for the plant-specific evaluations that are still referenced in Chapters II-VIII of the GALL Report? The commenter should provide justification to support any suggestions.

Public Workshop

A public workshop is scheduled during the public comment period. Scheduled for March 2, 2005, this workshop will be held in the Commissioners' Hearing Room, O-1G16, at OWFN, the NRC headquarters. The formal meeting notice is available at http://www.nrc.gov/public-involve/public-meetings/meeting-schedule.html. It is anticipated that the workshop will provide the participants an opportunity to obtain further information, to ask questions, to make comments to add to the discussion, or otherwise to facilitate the public in formulating and preparing written comments for NRC staff consideration on these revised license renewal guidance documents. To ensure that all of the ideas raised are recorded, the workshop will be transcribed and the NRC staff will prepare a summary report to categorize the comments.

Dated at Rockville, Maryland, this 27th day of January 2005.
For the Nuclear Regulatory Commission.
Pao-Tsin Kuo,
Program Director, License Renewal and Environmental Impacts Program, Division of Regulatory Improvement Programs, Office of Nuclear Reactor Regulation.

[FR Doc. 05-1887 Filed 1-31-05; 8:45 am]

BILLING CODE 7590-01-P